DEPARTMENT OF THE INTERIOR

Bureau of Indian Affairs

Plan for the Use and Distribution of the Menominee Tribe of Wisconsin Settlement Funds—Termination Act Claims

AGENCY: Bureau of Indian Affairs, Interior.

ACTION: Notice.

SUMMARY: Notice is hereby given that the plan for the use and distribution of the Menominee Indian Tribe of Wisconsin settlement fund is effective as of September 20, 2000. The settlement fund was created under section 3 the Act of August 17, 1999, Public Law 106-54, 113 Stat. 398.

FOR FURTHER INFORMATION CONTACT: Daisy West, Bureau of Indian Affairs, Division of Tribal Government Services, MS-4631-MIB, 1849 C Street, NW, Washington, DC 20240. Telephone number: (202) 208-2475.

SUPPLEMENTARY INFORMATION: Subsection 3(c)(1) of the Act of August 17, 1999, supra, and section 3(b) of the Indian Tribal Judgment Funds Act, 25 U.S.C. 1403(b), requires that a plan be prepared and submitted to Congress for the use and distribution of the Menominee settlement funds. The plan for the use and distribution of the funds was submitted to Congress on May 22, 2000, by letters dated May 19, 2000. The receipt of the letters was recorded in the Congressional Record published on May 24, 2000. The plan became effective on September 20, 2000, since a joint resolution disapproving it was not enacted. The plan reads as follows:

Plan

For the Use and Distribution of the Menominee Indian Tribe of Wisconsin Judgment Funds

The funds appropriated on September 27, 1999, in satisfaction of an award granted to the Menominee Indian Tribe of Wisconsin (Tribe) pursuant to the Act of August 17, 1999, Pub. L. 106-54, 113 Stat. 398, including all interest and investment income accrued, less attorney fees and litigation expenses, shall be distributed as herein provided.

A. Per Capita Distribution

Approximately $16,026,000 (58.8 percent of the judgment funds remaining after payment of litigation expenses) shall be made available for a $2,000 per capita payment to all duly enrolled tribal members that filed enrollment applications with the Tribe on or before October 15, 1999. Judgment fund per capita shares shall also be set aside for the estates of tribal members that were living on August 17, 1999, but deceased prior to the per capita distribution, provided, that enrollment applications were filed with the Tribe prior to the application deadline date.

If the estimated amount is not sufficient to cover the per capita portion of the distribution, funding adjustments can be made from the Alternative and Additional Projects account.

The per capita shares of living competent adults shall be paid directly to them. The per capita shares of incarcerated members who are eligible for the per capita payment shall be placed in Individual Indian Money (IIM) accounts, provided that the Tribe provides a certified list of those individuals to the Bureau of Indian Affairs along with the written requests from those individuals requesting that their per capita funds be placed in a non-supervised IIM account. The per capita shares of deceased individual beneficiaries shall be determined in accordance with 43 CFR, Subpart D. Per capita shares of legal incompetents and minors shall be placed in IIM accounts and shall not be available for disbursement until a payment plan is developed by the Tribe for the disbursement of funds from the supervised IIM accounts as required under 25 U.S.C. 1403(b)(3). The payment plan for the shares belonging to legal incompetents and minors must be approved by the Secretary. The Tribe may make the per capita distribution as authorized under 25 U.S.C. 117(b).

B. Programming

The programming funds shall be allocated by the Tribe for the following projects. The programming funds are authorized for expenditure in accordance with the revised tribal plan approved by the Menominee Tribal Legislature under Resolution No. 00-14, on March 23, 2000.

Renovation and Expansion of the Tribal Courthouse—Principal and investment income earned after the account is established by the Tribe will be available for the renovation and expansion project | $1,500,000
Education Endowment—Perpetual investment of principal funds, expenditures from interest income earned after the endowment fund is established | 4,000,000
Burial Fund Endowment—Perpetual investment of principal funds, expenditures from interest income earned after the endowment fund is established | 2,000,000
Health Care Endowment—Perpetual investment of principal funds, expenditures from interest income earned after the endowment fund is established | 2,000,000
Utilities Capital Improvement Fund—Principal and investment income earned after the account is established by the Tribe will be available for water and sewer projects and for use as matching grant funds for such projects | 1,500,000
Alternative and Additional Projects—Principal and investment income earned after the accounts are established by the Tribe will be available for alternative and additional projects. Any funds remaining after completing the per capita distribution and the renovation and expansion of the tribal courthouse shall also be available for the following alternative and additional projects: | 218,665
a. Telecommunications/Emergency Government Improvements (est. $125,000) |
b. Animal Shelter (est. $50,000) |
c. Recreation Supplement (est. $50,000) |
d. Eagles' Nest Operations Funding Supplement (est. $50,000) |
Use of Interest Funds—All interest earned on the judgment funds from the date of appropriation (September 27, 1999) until the date the funds are transferred to the Tribe in accordance with this plan, shall be added to the Tribe's FY 2000 Tribal budget (revenue side) to reduce the reliance on transfers from reserve by the like amount (Estimated to be $1,500,000).

C. Feasibility of Participation by Tribal Members Not on or Near the Reservation

The vast majority of the proposed uses of the judgment funds will be available to all tribal members. A share in the per capita distribution, eligibility for burial assistance, and access to both the health and education benefits provided through the establishment of these endowments means that 85 percent of the available settlement funds will be available to all tribal members regardless of residence.

D. General Provisions

The programming portion of the judgment fund shall be disbursed to the Tribe as soon as practical. If the tribal payment roll is certified by the Bureau of Indian Affairs Director, Midwest Region prior to the effective date of the plan, the program portion of the funds shall be disbursed to the Tribe within 30 days of the effective date of the plan. Otherwise, the program funds shall be disbursed to the Tribe within 30 days of the certification of the Tribal payment roll. Once the program funds are disbursed to the Tribe, the United States Government shall no longer have any trust responsibility for the investment, supervision, administration, or expenditure of the program portion of the judgment funds.

None of the funds distributed per capita, including the investment income earned thereon while held in trust, or made available under this plan for programming shall be subject to Federal or State income taxes. Nor can any of these funds nor their availability be considered as income or resources nor otherwise utilized as the basis for denying or reducing the financial assistance or other benefits to which such household or member would otherwise be entitled under the Social Security Act, or except for per capita shares in excess of $2,000, any federal or federally assisted program.

This notice is published in exercise of authority delegated to the Assistant Secretary—Indian Affairs under 25 U.S.C. 2 and 9 and 209 DM 8.

Dated: November 2, 2000.
Kevin Gover,
Assistant Secretary—Indian Affairs.

[FR Doc. 00-29150 Filed 11-14-00; 8:45 am]

BILLING CODE 4310-02-P